DEPARTMENT OF COMMERCE

International Trade Administration

[A-560-823, A-570-958]

Certain Coated Paper Suitable for High-Quality Print Graphics Using Sheet-Fed Presses From Indonesia and the People's Republic of China: Postponement of Preliminary Determinations of Antidumping Duty Investigations

AGENCY: Import Administration, International Trade Administration, Department of Commerce.

DATES: Effective Date: February 19, 2010.

FOR FURTHER INFORMATION CONTACT: Gemal Brangman (Indonesia) or Demitrios Kalogeropoulos (the People's Republic of China), AD/CVD Operations, Offices 2 and 8, Import Administration, International Trade Administration, U.S. Department of Commerce, 14th Street and Constitution Avenue, NW., Washington, DC 20230; telephone: (202) 482-3773 or (202) 482-2623, respectively.

SUPPLEMENTARY INFORMATION:

Postponement of Preliminary Determinations

On October 13, 2009, the Department of Commerce (“Department”) initiated the antidumping investigations of certain coated paper suitable for high-quality print graphics using sheet-fed presses from Indonesia and the People's Republic of China. See Certain Coated Paper Suitable for High-Quality Print Graphics Using Sheet-Fed Presses From Indonesia and the People's Republic of China: Initiation of Antidumping Duty Investigations, 74 FR 53710 (October 20, 2009).

The notice of initiation stated that unless postponed the Department would issue the preliminary determinations for these investigations no later than 140 days after the date of initiation, in accordance with section 733(b)(1)(A) of the Tariff Act of 1930, as amended (“the Act”). The preliminary determinations are currently due no later than March 2, 2010.

On January 22, 2010, the petitioners, Appleton Coated LLC, NewPage Corporation S.D. Warren Company d/b/a Sappi Fine Paper North America, and United Steel, Paper and Forestry, Rubber, Manufacturing, Energy, Allied Industrial and Service Workers International Union, made a timely request pursuant to section 733(c)(1)(A) of the Act and 19 CFR 351.205(e) for a 50-day postponement of the preliminary determinations. The petitioners requested postponement of the preliminary determinations in order to ensure that the Department has ample time to thoroughly analyze the complex issues involved in these investigations.

Because there are no compelling reasons to deny the request, the Department is postponing the deadline for the preliminary determinations pursuant to section 733(c)(1)(A) of the Act to April 21, 2010, 190 days from the date of initiation. The deadline for the final determinations will continue to be 75 days after the date of the preliminary determinations, unless postponed.

This notice is issued and published pursuant to sections 733(c)(2) of the Act and 19 CFR 351.205(f)(1).

Dated: February 4, 2010.
Ronald K. Lorentzen,
Deputy Assistant Secretary for Import Administration.

[FR Doc. 2010-3268 Filed 2-18-10; 8:45 am]

BILLING CODE 3510-DS-P